DEPARTMENT OF ENERGY

Office of Energy Efficiency and Renewable Energy

Executive Summit on Marine and Hydrokinetic (MHK) Research and Development

AGENCY: Wind and Water Power Technologies Office, Office of Energy Efficiency and Renewable Energy, Department of Energy.

ACTION: Notice of the Executive Summit on Marine and Hydrokinetic Research and Development.

SUMMARY: The Wind and Water Power Technologies Office within the U.S. Department of Energy (DOE) intends to hold an Executive Summit on Marine and Hydrokinetic (MHK) Research and Development (“Summit”) from 9:00 a.m. to 5:30 p.m. in Washington, DC on March 2, 2016. Through this initiative, the Wind and Water Power Technologies Office, together with executive members from the Department of Energy, the national laboratories, and the MHK energy industry, intends to showcase DOE's water power energy investments in the national laboratories and to identify activities ripe for technology transfer.

DATES: DOE will host the Summit from 9:00 a.m. to 5:30 p.m. on Wednesday, March 2, 2016.

ADDRESSES: The Summit will be held at the Newseum, 555 Pennsylvania Ave. NW., Washington, DC 20001.

FOR FURTHER INFORMATION CONTACT: Alison LaBonte, Office of Energy Efficiency and Renewable Energy, U.S. Department of Energy, 1000 Independence Ave. SW., Washington, DC 20585. Telephone: (202) 287-1350. Email: mhk.summit@ee.doe.gov.

SUPPLEMENTARY INFORMATION:

Background

The U.S. Department of Energy (DOE) is hosting a summit to target executive members from DOE, the national laboratories, and the marine and hydrokinetic (MHK) energy industry to showcase DOE's MHK investments in the national laboratories and identify activities ripe for technology transfer. By participating in this summit, attendees will have a unique opportunity to hear firsthand about important innovations in the MHK research community, DOE's Small Business Voucher program (Round 2), and DOE's research and development priorities for ocean wave, tidal, current, and river energy.

The Wind and Water Power Technologies Office (WWPTO) has selected subject matter experts from DOE, the National Renewable Energy Laboratory, Sandia National Laboratories, and Pacific Northwest National Laboratory to discuss DOE's MHK initiatives associated with facilitating industry engagement with the national laboratories. In particular, the Summit will hold sessions that discuss cutting-edge department activities that accelerate the deployment of MHK technologies through improved performance, lowered costs, and reduced market barriers. The Summit will also feature a session where industry representatives will discuss how to fulfill industry-wide research priorities, maintain feedback loops throughout the research and development process, and how to engage with private sector partners.

Public Participation

The event is open to the public based upon space availability. DOE will also accept public comments as described above for purposes of better understanding the MHK industry and challenges associated with increased deployment. These comments may be submitted at mhk.summit@ee.doe.gov.

Participants should limit information and comments to those based on personal experience, individual advice, information, or facts regarding this topic. It is not the object of this session to obtain any group position or consensus from the meeting participants. To most effectively use the limited time, please refrain from passing judgment on another participant's recommendations or advice, and instead, concentrate on your individual experiences.

Following the meeting, a summary will be compiled by DOE and posted for public comment. For those interested in providing additional public comment, the summary will be posted at water.energy.gov.

Issued on February 17, 2016, in Washington, DC.
José Zayas,
Director, Wind and Water Power Technologies Office, Office of Energy Efficiency and Renewable Energy.

[FR Doc. 2016-03764 Filed 2-22-16; 8:45 am]

BILLING CODE 6450-01-P